DEPARTMENT OF TRANSPORTATION

Federal Transit Administration

Discretionary Bus and Bus Facilities Program and National Research Program Funds.

AGENCY: Federal Transit Administration (FTA), DOT.

ACTION: Notice of Funding Availability (NOFA) of FTA Section 5309 Bus and Bus Facilities Program and Section 5312 National Research Program Funds: Solicitation of Project Proposals for Veterans Transportation and Community Living Initiative II Grants.

SUMMARY: The Federal Transit Administration (FTA) announces the availability of discretionary funds from the Fiscal Year (FY) 2012 Section 5309(b)(3) Bus and Bus Facilities Program and the FY 2011 Section 5312 National Research Program for continuing support of the Federal Interagency Coordinating Council on Access and Mobility's (Coordinating Council or CCAM) Veterans Transportation and Community Living Initiative (VTCLI).

The Surface and Air Transportation Programs Extension Act of 2011 (Temporary Authorization, 2012) continues the authorization of the Federal transit programs of the U.S. Department of Transportation (DOT) through March 31, 2012, and provides contract authority for these programs equal to approximately one half of the amounts available in FY 2011. Under this funding opportunity, subject to funding availability by Congress, FTA will provide approximately $25 million in unallocated discretionary FY 2012 Bus and Bus Facilities Program funds, supplemented by approximately $5 million in unallocated FY 2011 National Research Program funds.

This grant opportunity, referred to as “VTCLI II” in this notice, makes funds available to state and local governmental agencies for the capital costs of creating, expanding, or increasing access to local One-Call/One-Click Transportation Resource Centers (One-Call/One-Click Centers), as well as some research costs to demonstrate successful implementation of these capital projects. The One-Call/One-Click Centers simplify access to transportation for the public by providing one place to connect veterans, service members, military families, persons with disabilities and other transportation-disadvantaged populations, such as older adults, low-income families or disadvantaged youth, to rides and transportation options provided in their locality by a variety of transportation providers and programs.

This notice describes the transportation service coordination and simplified customer access priorities established by the Coordinating Council's partnership, the criteria the interagency review panel will use to identify meritorious projects for funding, and how to apply. This announcement is available on the FTA's Web site, on the Veterans Transportation and Community Living Initiative Web page at: http://www.fta.dot.gov/veterans. FTA will announce final selections on the FTA Web site and may announce selections in the Federal Register. A synopsis of this announcement will be posted in the FIND module of the government-wide electronic grants Web site at http://www.grants.gov.

DATES: Complete proposals for VTCLI II grants must be submitted by 11:59 pm EDT on April 19, 2012. Applicants who have not already begun registering on the GRANTS.GOV site should do so immediately to ensure completion of registration before the submission deadline.

ADDRESSES: Proposals must be submitted electronically at http://www.grants.gov.

FOR FURTHER INFORMATION CONTACT: For general program information, as well as proposal-specific questions, please send an email to VeteransTransportation@dot.gov or contact Erik Weber, (202) 366-0705. A TDD is available at 1-800-877-8339 (TDD/FIRS).

SUPPLEMENTARY INFORMATION:

Table of Contents

I. Funding Opportunity Description

II. FTA and Other Partnership Award Information

III. Eligibility Information

IV. Proposal Submission Information

V. Proposal Review and Selection

VI. Award Administration

VII. Agency Contacts

I. Funding Opportunity Description

A. Authority

The capital funding for VTCLI II is authorized under 49 U.S.C. Section 5309(b), as amended by Section 3011 of SAFETEA-LU:

The Secretary may make grants under this section to assist State and local governmental authorities in financing * * * capital projects to replace, rehabilitate, and purchase buses and related equipment and to construct bus-related facilities, including programs of bus and bus-related projects for assistance to subrecipients that are public agencies, private companies engaged in public transportation, or private non-profit organizations * * *

Eligible capital projects, as defined in 49 U.S.C. Section 5302(a)(1) include projects for:

“* * * acquiring, constructing, supervising, or inspecting equipment or a facility for use in public transportation * * *. (including designing, engineering * * *), * * * transit-related intelligent transportation systems,”

and,

“the introduction of new technology, through innovative and improved products, into public transportation * * *.”

Funding to demonstrate implementation of VTCLI II projects is authorized under 49 U.S.C. 5312(a) as amended by Section 3014(a) of SAFETEA-LU:

“* * * The Secretary may make grants * * * for research, development, demonstration, and deployment projects * * * that the Secretary determines will improve public transportation service * * *.”

B. Background

President Obama has made the care and support of military families a top policy priority. In a January 2011 report, “Strengthening Our Military Families: Meeting America's Commitment,” the White House noted the importance of “harnessing resources and expertise across the Federal Government [to improve] the quality of military family life [and to help] communities more effectively support military families.”

Reliable mobility has direct and substantial impacts on many of the priorities presented in the report—such as promoting housing security among veterans, developing career and educational opportunities, and reducing barriers to employment. To fulfill the President's objectives on behalf of veterans, active duty service members and their families, representatives of the Coordinating Council came together with Veteran and Military Service Organizations (VSO/MSO) around the country to discuss transportation challenges. They agreed that:

1. When it comes to transportation, more effective and consistent coordination is needed among Federal, state, and community-based programs that already deliver or sponsor services to veterans, military families and persons with disabilities where they live; and,

2. Enhancing veterans' and military families' awareness of, and access to, transportation choices in their communities is integral to successfully reintegrating these men and women and their families.

In order to achieve these outcomes, several CCAM members—the Departments of Transportation, Veterans Affairs, Labor, and Health and Human Services—joined with the Department of Defense to launch the Veterans Transportation and Community Living Initiative. FTA awarded $34.6 million of VTCLI discretionary capital grants in the fall of 2011. Due to the demand for these funds, FTA is making another $25 million of FY 2012 Section 5309 Bus and Bus Facilities funds, as well as approximately $5 million of FY 2011 Section 5312 Research Program funds available under this notice, subject to funding availability. These efforts build upon FTA National Research Program efforts to demonstrate and implement one-call/one-click centers through the Mobility Services for All Americans (MSAA) Program, jointly funded with the Research and Innovative Technology Administration (RITA) ITS Joint Program Office.

With these funds, FTA will continue to help communities address transportation needs of veterans, military families, persons with disabilities and other transportation-disadvantaged populations and enable the communities to acquire technologies to implement One-Call/One-Click Centers.

C. Program Purpose

Building on the success of the MSAA and United We Ride (UWR) “One-Call Center” model, the VTCLI II will help communities build or expand local One-Call/One-Click Centers to bring together transportation services available to the general public with those available to customers of human services programs, and especially services for veterans and military families. Coordinating transportation services promotes improved access to community services and employment, and will advance the integration of those with disabilities into their communities.

Based on its mission to care for America's veterans, the Department of Veterans Affairs (VA) provides transportation only to and from VA medical facilities. In the coming years, the country's aging veterans will require increasing levels of medical care. Meanwhile service members are returning from Iraq and Afghanistan and many wounded warriors will be transitioning into the VA system. They need reliable transportation options and services beyond those the VA is able to directly provide in order to maintain or regain an active community life.

In many communities, transportation resources already exist for those who are not able to drive themselves. Yet all too often, members of the veterans and military communities aren't aware of the existing transportation resources, don't know how to access them, or aren't involved in the transportation planning and resource allocation processes. Improving transportation options for America's veterans, service members and their families will help to integrate these valued members of our society.

The VTCLI goal is to increase the availability of community transportation resources, and awareness of them among the military community by:

• Establishing or expanding One-call/One-Click Transportation Resource Centers, to include resources for veterans, service members and military families, and promoting use of the One-Call/One-Click Centers within the military community;

• Creating partnerships between transportation providers and veterans and military communities; and

• Increasing involvement of veterans and military communities in local Coordinated Human Services Transportation Planning process.

Importantly, the One-Call/One-Click infrastructure funded by VTCLI II will be available to all members of the community. Better integration of transportation information and services benefit not only veterans, service members and their families, but all transportation-disadvantaged populations. One-Call/One-Click Centers will enhance communities' ability to integrate individuals with disabilities and prevent institutionalization, in accordance with the President's commitment to the principles of the Supreme Court's Olmstead decision (Olmstead v. L.C., 527 U.S. 581 (1999)), which addresses the rights of individuals with disabilities to live independently.

As an initiative of the Coordinating Council, VTCLI II grants should not create narrowly-focused programs or services. Proposals are expected to enhance and/or increase transportation or mobility benefits to other community members, particularly, transportation-disadvantaged populations.

The VTCLI II awards will go to communities whose proposals:

1. Identify transportation and mobility needs of their veterans and military community;

2. Propose to create or increase access to a community One-Call/One-Click Center or expand an existing community One-Call/One-Click Center to include transportation resources and address identified needs of veterans and military families;

3. Demonstrate a community coalition of transportation, military family and veteran service providers which has participated in the proposal writing and will guide the project implementation;

4. Commit to increase involvement of veterans and the military community in locally coordinated transportation planning, including revising the community Coordinated Human Services Transportation Plan, to address the needs of these target groups; and,

5. Lay out a framework for measuring the performance of the project in meeting the goals of the VTCLI.

II. FTA and Other Partnership Award Information

A. FTA Award Information

VTCLI II projects may consist of awards from two discretionary funding sources: FY 2012 Section 5309 Bus and Bus Facilities Program and FY 2011 Section 5312 Research Program.

• FY 2012 Section 5309 Bus and Bus Facilities Program funds. FTA will award a maximum of $2 million of FY 2012 Section 5309 funds for any single project. FTA will fund up to 80% of the project cost, requiring a minimum 20% local match for capital costs.

• FY 2011 Section 5312 Research Program funds. FTA will award a maximum of $50,000 or 50% of the Section 5309 request, whichever is less, in FY 2011 Section 5312 funds for research and demonstration costs directly related to the implementation of the capital project. FTA will fund 100% of the research costs.

FTA funds are available to State or local governmental authorities as recipients and other public, private and non-profit organizations as subrecipients. FTA may partially fund applications based on the number and size of funding requests.

The evaluation process will consider geographical distribution, distribution amongst large urban, small urban and rural areas, as well as distribution of other discretionary program funding in making funding decisions. The FTA Administrator will determine the final selection and amount of funding for each project. FTA will announce selected projects in the summer of 2012.

B. Other Partnership Information

The partnership is supporting the goals of the VTCLI with additional programs and technical assistance. These include:

1. The Department of Labor's Office of Disability Employment Policy, along with FTA, will provide online, collaborative workspaces for communities to use in planning and implementing One-Call/One-Click Centers and further transportation coordination efforts.

2. FTA's Office of United We Ride, through its transportation technical assistance centers, will provide technical assistance to awardees to assist in One-Call/One-Click Center implementation to address customer transportation connections and issues as well as plans to address unmet transportation needs of veterans, service members and their families.

3. The Department of Veterans Affairs continues to support VA medical facilities with its Veterans Transportation Service (VTS). VTCLI II applicants are highly encouraged to partner with existing VTS sites, if nearby, on their applications, or work with their nearby VA facility on a VTS application if it is not already a part of the VTS program. More information on VTS can be found at www.va.gov/veteranstransportationservice.

III. Eligibility Information

A. Eligible Applicants

Eligible applicants and eventual grant recipients for VTCLI II awards must be Direct Recipients under FTA's Section 5307 Urbanized Area Formula program, local governments, States, or Indian Tribes. States may submit consolidated proposals for multiple projects.

Proposals may contain projects to be implemented by the recipient or its subrecipients. Eligible subrecipients of FTA funding include: public agencies, private non-profit organizations, including Veterans Service Organizations and Military Family Service Organizations, and private providers engaged in public transportation.

B. Eligible Expenses

Projects eligible for funding under VTCLI II must focus on the implementation of One-Call/One-Click Centers and related transportation coordination. Eligible expenses under the Section 5309(b)(3) portion of VTCLI II are capital expenses related to the establishment of a One-Call/One-Click Center and technologies to ensure transportation service connectivity.

These costs include, but are not limited to: hardware purchases (computers, servers); in-vehicle technology (automatic vehicle location systems, communication devices, mobile data terminals); software (scheduling & dispatching, communications, billing, consumer mobile applications); facility-related capital (purchase, lease, alteration); design and engineering, including consultant costs; and project administration (up to 10% of total capital project costs). Capital items not listed may be eligible if clearly associated with the implementation of a One-Call/One-Click Center. Applicants should check the eligibility of such items by contacting FTA through one of the methods listed in this notice.

FTA will not fund vehicle acquisition, operating assistance or preventive maintenance costs under this grant opportunity. Operation costs of the One-Call/One-Click Center also are not eligible.

Eligible expenses for the Section 5312 portion of VTCLI II include, but are not limited to, coordinated planning, marketing, and public engagement efforts not eligible as capital but directly related to demonstrating the implementation of the proposed VTCLII capital project. FTA is interested in demonstrating how these types of additional efforts can improve the success of the One-Call/One-Click Centers. Under VTCLI II, FTA will not award research funds independent of a related request for Section 5309 capital award in either this competition or a project selected in the previous round of the VTCLI.

C. Cost Sharing

FY 2012 Section 5309 Bus and Bus Facilities funds received under a VTCLI II grant will be shared at the following ratio: 80% FTA/20% local contribution. FY 2011 Section 5312 Research funds will not require a local match. FTA will not approve deferred local match under this program. The local match can be provided from cash or in-kind resources.

III. Proposal Submission Information

A. Proposal Process

Complete proposals for VTCLI II must be submitted electronically through the GRANTS.GOV Web site no later than 11:59 pm EDT on April 19, 2012. Applicants are encouraged to begin the process of registration on the GRANTS.GOV site well in advance of the submission deadline. Registration is a multi-step process, which may take several weeks to complete before a proposal can be submitted.

A complete proposal submission will consist of at least two files: (1) The SF 424 Mandatory form (downloaded from GRANTS.GOV) and (2) the Supplemental Form targeting the relevant FTA program found on the FTA Web site. The supplemental form provides guidance and a consistent format for proposers to respond to the criteria outlined in this NOFA. Once completed, the supplemental form will be placed in the attachments section of the SF 424 Mandatory form. Proposers must use the correct Supplemental Form and attach it to their submission in GRANTS.GOV to successfully complete the application process. A proposal submission may contain additional supporting documentation as attachments.

Within 24-48 hours after submitting an electronic application, the applicant should receive three email messages from GRANTS.GOV: (1) Confirmation of successful transmission to GRANTS.GOV, (2) confirmation of successful validation by GRANTS.GOV and (3) confirmation of successful validation by FTA. If confirmations of successful validation are not received and a notice of failed validation or incomplete materials is received, the applicant must address the reason for the failed validation, as described in the notice, and resubmit before the submission deadline. If making a resubmission for any reason, include all original attachments regardless of which attachments were updated.

Complete instructions on the application process can be found at http://www.fta.dot.gov/veterans. Important: FTA urges applicants to submit their proposal at least 72 hours prior to the due date to allow time to receive the validation message and to correct any problems that may have caused a rejection notification. Submissions received after 11:59 pm EDT on April 19, 2012, will not be accepted. GRANTS.GOV scheduled maintenance and outage times are announced on the GRANTS.GOV Web site http://www.GRANTS.GOV. Deadlines will not be extended due to scheduled maintenance or outages.

B. Proposal Content

All pertinent application information and narrative should be submitted electronically through Grants.gov directly in the SF424 and the FTA-required Supplemental Form. Do not submit responses to the evaluation criteria in a separate attachment. Only supporting exhibits such as maps, diagrams, detailed budget documents, or letters of support should be submitted as separate attachments to the SF424 in Grants.gov.

1. Applicant Information

The SF424 and FTA Supplemental Form will ask for the following basic sponsor identifying information:

a. Applicant's name and FTA recipient ID number.

b. Contact Information for notification of project selection (including contact name, title, address, congressional district, email, fax and phone number).

c. Eligibility information.

d. Description of services provided by the agency including areas served.

2. Proposal Information

The FTA Supplemental Form instructs applicants to include the following information (for each project if submitting a consolidated proposal):

a. Subrecipient name and contact (if the project will be performed by a subrecipient).

b. A project title.

c. A project executive summary, including the scope, purpose and goals of the project, not to exceed 250 words.

d. Project type.

e. Requested information and narrative justifications for each of the four evaluation criteria detailed in Section V of this Notice.

f. Basic line-item budgets for the capital and research funds, if requested, describing the various key components of the project and cost.

Note: Proposals may use estimated costs for implementation if exact costs are unknown prior to development. Scalable guidelines for cost estimation of one-call technology are available on the FTA Web site.

g. Capital project scalability detailing minimum funds requires for a smaller project to provide independent utility.

h. The total amount of Federal funds requested, and the amount of matching funds, including source and documentation of the match.

i. An estimated project timeline and major milestones.

j. The congressional district(s) in which the project will be implemented.

V. Proposal Review and Selection

A. Project Evaluation Criteria

Projects will be evaluated by an interagency review team based on the proposals submitted according to: (1) Planning and partnership; (2) Readiness; (3) Technical, legal and financial capacity; (4) Demonstration of need; and (5) Project Development. The FTA Supplemental Form prompts applicants to address these criteria which are detailed below.

Each applicant is encouraged to demonstrate the responsiveness of a project to all of the selection criteria with the most relevant information that the applicant can provide, regardless of whether such information has been specifically requested, or identified, in this notice. The FTA Supplemental Form provides narrative justification sections for each of the criteria. FTA will evaluate the extent to which a project proposal addresses the following criteria:

1. Planning and Partnership

a. Indicate that the project is or can be included in the financially-constrained Transportation Improvement Program (TIP)/Statewide Transportation Improvement Program (STIP). If selected, the project must be in TIP or STIP before the grant can be awarded.

b. Describe applicant's experience with regional coordinated transportation and human services planning, including indicating:

i. When was the most recent coordinated public transit-human services transportation plan (“coordinated plan”) developed?

ii. Have the applicant and/or any proposed subrecipients previously been involved in developing their community's coordinated plan?

c. Indicate prior work on veterans/military family mobility issues, including addressing the following questions:

i. Has the community taken steps prior to the VTCLI to address the mobility needs of local veterans and military families?

ii. Have veterans/military family needs previously been addressed in the coordinated plan?

d. Demonstrate a substantive partnership with the following types of organizations or service providers. In addition to letters of support from partners, outstanding applications will describe how the partners were involved in the proposal development and how they will participate in its implementation. The review committee will look for proof of strong, substantive partnerships. Proposals without proof of partnerships with all four of the following organization categories or adequate justification for a missing category will not be considered:

i. Transportation organizations, which include, but are not limited to: transit agencies, brokers, taxis, volunteer driver services; planning agencies, such as a Metropolitan Planning Organization (MPO), and local coordinated plan's public transit/human services lead agency;

ii. Veteran/Military Governmental Service Providers, which include, but are not limited to: VA medical center networks; Veterans Transportation Service; Department of Defense recovery care programs; Military bases, hospitals, and other medical providers; and/or State, county or city veterans affairs offices;

iii. Veteran/Military Service Organizations which include, but are not limited to: Iraq and Afghanistan Veterans of America, American Legion; and Military Family Organizations, which include, but are not limited to: Wounded Warrior Project, Blue Star Families, National Military Family Association; and,

iv. Existing One-Call/One-Click Service or Transportation Centers in the community, such as 211s or transit customer service center, if any. If the new One-Call/One-Click Center will stand as its own entity, the proposer must indicate that there are either no existing One-Call/One-Click Services or Centers in the community OR provide a strong justification why a separate One-Call/One-Click Center will produce the best outcomes for the community.

e. Applicants are encouraged to develop partnerships with additional groups beyond those required above, including:

i. Employers, workforce development and training agencies, etc.

ii. Independent living/aging organizations (e.g., Centers for Independent Living, Senior Centers, Aging and Disability Resource Centers)

iii. Local political officials

f. Applicants may also provide documentation and/or descriptions of any additional partners who participated in the planning and development of their proposal, if applicable.

g. Project partners should be listed in the appropriate section on the Supplemental From. Check the box next to each partner which has submitted a letter of support.

2. Readiness

If the proposal was submitted for the first round of VTCLI funding, and has not been substantially modified, check the box indicating this. Indicate the time in which the grant can be obligated and the time in which the project can be implemented.

While project funds may be expended over the course of design, development, procurement and implementation stages of the One Call/One-Click Center, applicants must indicate that the project can actively initiate upon receiving a grant. The project should be completed in a reasonable period as determined on a case-by-case basis, in order to provide the new or enhanced coordinated services as soon as practicable.

Address all of the following points in the Project Readiness Justification:

a. Indicate the short-term, mid-range and long-term goals for the project.

b. Indicate prior work on One-Call/One-Click Centers, addressing the following questions:

i. Does the community have an existing human service/workforce or transportation One-Call/One-Click Center?

ii. If not, has the community identified the need for a One-Call/One-Click Center in its local coordinated plan?

iii. If so, has the existing One-Call/One-Click Center incorporated any veterans or military transportation services? Can existing one call/one click centers capacity be used in this project, including the ability to use existing shared-space?

iv. Have you conducted any outreach or programs for staffing the One-Call/One-Click Center? Will the center employ any veterans, military family members or individuals with disabilities?

c. Indicate the project is a Categorical Exclusion (CE), or the required environmental work has been initiated or completed for construction projects requiring an Environmental Assessment (EA) or Environmental Impact Statement (EIS) under, among others, the National Environmental Policy Act of 1969, as amended.

d. For facility construction or modification project, indicate project implementation plans are complete, including initial design of facilities projects

e. For applicants who are not existing FTA direct recipients, indicate willingness of an existing grantee to receive funds on behalf of the applicant, or that the applying organization has the capacity to meet all pre-requisites and requirements of becoming an FTA grantee in a timely manner.

3. Technical, Legal & Financial Capacity

Address all of the following points in the justification:

a. Technical capacity: Only applicants who are willing to undertake further coordination of transportation and veterans or military family services and track the project performance under their VTCLI proposals will be selected. Applicants must indicate their commitment to:

i. Update the appropriate state, regional and/or local coordinated human services transportation plan to include a section on the mobility needs of the veteran and military community. If the community has already done this, this should be indicated in the narrative and the plan should be attached to the application.

ii. Address the mobility and transportation challenges of veterans and military families through additional coordinated transportation strategies, such as mobility management, community transportation gap assessment, etc.

iii. Identify local technical assistance needs in order to effectively implement One-Call/One-Click Centers and further address veterans and/or military families' mobility needs in the coordinated plan.

iv. Develop a performance measurement plan to track success of the project relative to desired VTCLI goals outlined in Section I. C. of this notice. This commitment should be indicated by inclusion of preliminary proposed performance measures for the project.

b. Legal capacity: Applicants must indicate that there are no legal issues which would prevent acceptance of FTA funds, their eligibility and authority to apply.

c. Financial capacity: Leveraging other funds -Proposals that leverage additional FTA, other Federal, State, or local funds beyond the required local match will be scored favorably. Local match details will be entered in the appropriate section later on the Supplemental Form. For Financial Capacity, indicate the following:

i. A funding plan for long-term sustainability, including the operation of the One Call/One-Click Center;

ii. Additional FTA program funding identified—Mobility management, vehicle purchases, and vehicle modifications will not be eligible expenses under the VTCLI. Applicants are encouraged to update their coordinated plan and identify funds from other FTA grant programs, such as Sections 5310 (Elderly/Disabled), 5316 (Job Access/Reverse Commute) or 5317 (New Freedom), to meet vehicle or mobility management needs;

iii. Additional Federal resources to be leveraged (e.g. Aging and Disability Resource Center/Area Agencies on Aging [ADRC/AAA], One-Stop employment, VA, DoD, HHS funds, Vocational Rehabilitation/RSA); and

iv. Other non-Federal funding above and beyond local match (State funding, private donations, etc.).

4. Demonstration of Need

Projects will be selected in part based on demonstrated need of veterans, military families and other transportation-disadvantaged populations for services proposed.

State the size of the local veteran and military population and identify transportation and mobility needs of these populations. When available, provide quantitative support; otherwise, providing narrative description of challenges and needs will suffice.

Each application should address the following questions:

a. How large are the veterans/military communities in the project area to be served by the project?

b. What portion of the veterans/military population in the projects area are persons with disabilities?

c. Where are the nearest veterans and military support services that support the project's area?

d. What are the specific transportation barriers and other challenges facing veterans and military families in the project's area?

e. Identify the community's existing public, non-profit and private transportation providers.

f. Demonstrate how the One-Call/One-Click Center will address the mobility needs of the above identified populations.

g. Describe how veterans, especially disabled veterans, will be engaged in the development and operation of the project.

5. Research

Applicants may request Research funds in addition to the Capital project funds, up to $50,000 or 50% of the amount of Section 5309 funds requested, whichever is smaller. In the Research justification, provide a description of activities to be funded and a justification of the relationship to the capital project.

The Research budget information should be entered separately on the Supplemental Form following the Capital Project Budget.

B. Submission Dates and Time

All proposals must be submitted electronically via GRANTS.GOV no later than 11:59 pm EDT on April 19, 2012.

C. Funding Restrictions

Proposals must be submitted by FTA recipients eligible to receive FTA Section 5309 funds. Due to funding limitations, applicants that are selected for funding may receive less than the amount originally requested.

D. Proposal Selection Process

VTCLI II proposals will first be screened by FTA staff members. Eligible proposals will be then rated by an interagency review panel representing the members of the VTCLI. Members of the interagency review panel and other involved FTA staff reserve the right to:

(1) If a large number of parties apply, FTA may screen and rank the applications it receives, and limit its review to the most promising proposals;

(2) Seek clarification from any applicant about any statement in its application that FTA finds ambiguous. FTA will review applications strictly in light of the common meanings of words used in the proposals, as understood in the transit community.

(3) Conduct discussions with the applicants about their applications; and

(4) Extend the time for applicants to submit or amend their applications.

Final decisions and allocation of FTA funds will be made by the FTA Administrator. Geographic distribution may be a factor in FTA's award decisions. FTA will announce selected projects in the summer of 2012.

VI. Award Administration

A. Award Notices

FTA will announce final VTCLI II project selections on the FTA Web site and may announce selections in the Federal Register. FTA will contact successful applicants. After receipt of a complete application, FTA will award grants for the selected projects to the proposer through the FTA Transportation Electronic Award Management (TEAM) System. These grants will be administered and managed by the FTA regional offices in accordance with the Federal requirements of the Section 5309 Bus and Bus Facilities Program and Section 5312 National Research Program. There is no blanket pre-award authority for the selected projects. Once selected for funding, applicants may request pre-award authority which may be granted on a case-by-case basis.

B. Administrative and National Policy Requirements

1. Grant Requirements. If selected, applicants will apply for a grant through TEAM and adhere to the customary FTA grant requirements of the Section 5309 Bus and Bus Facilities program, including those of FTA C 9300.1A Circular and C 5010.1C and Section 5333(b) labor protections. Awards greater than $500,000 will go through a Congressional Notification and Release process. Technical assistance regarding these requirements and processes is available from each FTA regional office.

2. Additional requirements if receiving Section 5312 Research funds. If an applicant has requested and been awarded Section 5312 funds, the applicant will need to apply separately in TEAM for these funds. Research funds must adhere to the requirements of the Section 5312 National Research Program, including those of FTA C 6100.1D Circular. Section 5312 funds require submission of a final report on the results of the demonstration. FTA may waive this requirement by completing an overall assessment collecting information from each awarded project.

3. Planning. Applicants are encouraged to notify the appropriate State Departments of Transportation and MPO in areas likely to be served by the project funds made available under this program. Incorporation of funded projects in the long range plans and transportation improvement programs of States and metropolitan areas is required of all funded projects.

4. Standard Assurances. The Applicant assures that it will comply with all applicable Federal statutes, regulations, executive orders, FTA circulars, and other Federal administrative requirements in carrying out any project supported by the FTA grant. The Applicant acknowledges that it is under a continuing obligation to comply with the terms and conditions of the grant agreement issued for its project with FTA. The Applicant understands that Federal laws, regulations, policies, and administrative practices might be modified from time to time and that modifications may affect the implementation of the project. The Applicant agrees that the most recent Federal requirements will apply to the project, unless FTA issues a written determination otherwise. The Applicant must submit the Certifications and Assurances before receiving a grant if it does not have current Certifications on file.

C. Reporting

Post-award reporting requirements include submission of Financial Status Reports and Milestone reports in TEAM on a quarterly basis for all projects. Documentation of project progress is required for payment. Additional reporting may be required specific to the VTCLI. Recipients may also be expected to participate in events or peer networks related to VTCLI. Grants which include research funds may be required to develop a final report or provide data for a consolidated report on the program.

VII. Agency Contacts

For general program information, as well as proposal-specific questions, please send an email to VeteransTransportation@dot.gov or contact Erik Weber at (202) 366-0705. A TDD is available at 1-800-877-8339 (TDD/FIRS). Applicants may also visit www.fta.dot.gov/veterans for frequently asked questions and answers.

Issued in Washington, DC, this 2nd day of February, 2012.
Peter Rogoff,
Administrator.

[FR Doc. 2012-2755 Filed 2-6-12; 8:45 am]

BILLING CODE P